DEPARTMENT OF COMMERCE

National Oceanic and Atmospheric Administration

50 CFR Part 224

[Docket No. 250108-0009]

RIN 0648-BI88

North Atlantic Right Whale Vessel Strike Reduction Rule

AGENCY: National Marine Fisheries Service (NMFS), National Oceanic and Atmospheric Administration (NOAA), Commerce.

ACTION: Proposed rule; withdrawal.

SUMMARY: NMFS withdraws a proposed rule published in the Federal Register on August 1, 2022 to amend the North Atlantic right whale (Eubalaena glacialis) vessel speed regulations. NMFS withdraws this proposed rule in light of numerous and ongoing requests from the public for further opportunity to review and engage with the Agency on the proposal. NMFS's existing vessel speed regulations remain in effect.

DATES: The National Marine Fisheries Service is withdrawing the proposed rule published August 1, 2022 (87 FR 46921) as of January 16, 2025.

ADDRESSES: The August 1, 2022 proposed rule, and the comments received, are available at https://www.regulations.gov, Docket No. NOAA-NMFS-2022-0022.

FOR FURTHER INFORMATION CONTACT: Caroline Good, NMFS Office of Protected Resources, caroline.good@noaa.gov, 301-427-8402.

SUPPLEMENTARY INFORMATION:

Background

The proposed rule (87 FR 46921, August 1, 2022) was intended to further reduce the likelihood of mortalities and serious injuries to endangered North Atlantic right whales from vessel collisions, which are impeding the species' recovery and are a primary factor in an ongoing Unusual Mortality Event. The proposed rule would have expanded the size class of regulated vessels subject to applicable vessel speed restrictions, enlarged the boundaries and extended the timing of seasonal speed zones, introduced mandatory dynamic (i.e., temporary) speed zones when right whales were known to be present outside of active seasonal zones, clarified language related to enforcement of the rule, and updated the safety deviation provision and reporting requirements.

NMFS received approximately 90,000 public comments on the proposed rule. The comments received addressed many different aspects of the rule and reflected views on all sides of the issues addressed. Despite its best efforts, NMFS does not have sufficient time to finalize this regulation in this Administration due to the scope and volume of public comments. NMFS hereby withdraws the August 2022 proposed rule and terminates this rulemaking proceeding. NMFS' existing North Atlantic right whale vessel speed regulations (50 CFR 224.105) remain in effect.

Withdrawal of the proposed rule does not preclude NMFS from taking future action, including but not limited to initiating a new rulemaking, to address ongoing lethal right whale vessel strikes. If, in the future, NMFS decides it is appropriate to issue regulations on this topic, NMFS will do so via a new rulemaking, in accordance with the Administrative Procedure Act, 5 U.S.C. 551 et seq.

Authority: 16 U.S.C. 1531 et seq.; 16 U.S.C. 1361 et seq.

Dated: January 8, 2025.
Samuel D. Rauch, III,
Deputy Assistant Administrator for Regulatory Programs, National Marine Fisheries Service.

[FR Doc. 2025-00718 Filed 1-15-25; 8:45 am]

BILLING CODE 3510-22-P